DEPARTMENT OF COMMERCE

National Oceanic and Atmospheric Administration

RIN 0648-XD645

New England Fishery Management Council; Public Meeting

AGENCY: National Marine Fisheries Service (NMFS), National Oceanic and Atmospheric Administration (NOAA), Commerce.

ACTION: Notice; public meeting.

SUMMARY: The New England Fishery Management Council's (Council) Observer Policy Committee will meet to review scientific information affecting New England fisheries in the exclusive economic zone (EEZ).

DATES: The meeting will be held on Wednesday, December 17, 2014, beginning at 9:30 a.m.

ADDRESSES: The meeting will be held at the Sheraton Colonial Hotel; One Audubon Road; Wakefield, MA 01880; telephone: (781) 245-9300; fax: (781) 245-0842.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda Items

The Observer Policy Committee will meet to: Review progress regarding development of NMFS-led omnibus amendment to establish provisions for industry-funded monitoring (IFM) across all Council-managed fisheries; review and discuss timeline for IFM amendment; discuss details of omnibus IFM amendment alternatives, review related information and available analyses, and develop Committee recommendations; and plan next meeting and address other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: November 25, 2014.
Tracey L. Thompson,
Acting Deputy Director, Office of Sustainable Fisheries, National Marine Fisheries Service.

[FR Doc. 2014-28202 Filed 11-28-14; 8:45 am]

BILLING CODE 3510-22-P